DEPARTMENT OF STATE

[Public Notice 3762]

Culturally Significant Objects Imported for Exhibition Determinations: “Spirit of an Age: Nineteenth Century Paintings From the Nationalgalerie, Berlin”

AGENCY: Department of State.

ACTION: Notice: Correction.

SUMMARY: On May 8, 2001, notice was published on pages 23309-23310 of the Federal Register (Volume 66, Number 89) by the Department of State pursuant to Public Notice 3653 relating to the exhibit “Spirit of an Age: Nineteenth Century Paintings from the Nationalgalerie, Berlin.” The referenced Notice is hereby corrected to reflect the fact that three works presently in the exhibition at the National Gallery of Art, Washington, DC, will go on to be exhibited at the Metropolitan Museum of Art, New York, NY, as part of another exhibition. Here is replacement language for the May 8, 2001 Federal Register Notice: replace “, is in the national interest.” with “and the display of three of these exhibit objects at the Metropolitan Museum of Art, New York, NY, from on or about September 11, 2001, to on or about November 11, 2001, is in the national interest. The exhibition or display of these three objects [1. The Solitary Tree (a.k.a. The Morning), 1822; 2. Moonrise over the Sea (a.k.a. The Evening, 1822, and 3. Man and Woman Contemplating the Moon, ca. 1824.] will be part of the Metropolitan Museum of Art's ‘Caspar David Friedrich: Moonwatchers’ exhibition.” The Federal Register Notice for the remaining objects from abroad for “Caspar David Friedrich: Moonwatchers” was published on July 9, 2001, by the Department of State pursuant to Public Notice 3717 (Page 35823, Volume 66, Number 131).

FOR FURTHER INFORMATION CONTACT: For further information, contact Julianne Simpson, Attorney-Adviser, Office of the Legal Adviser, U.S. Department of State (telephone: 202/619-6529). The address is U.S. Department of State, SA-44, 301 4th Street, SW., Room 700, Washington, DC 20547-0001.

Dated: August 27, 2001.
Helena Kane Finn,
Acting Assistant Secretary for Educational and Cultural Affairs, Department of State.

[FR Doc. 01-22057 Filed 8-30-01; 8:45 am]

BILLING CODE 4710-08-P